DEPARTMENT OF THE INTERIOR

Bureau of Indian Affairs

Revision of Agency Information Collection for the American Indian and Alaska Native Population and Labor Force Report

AGENCY: Bureau of Indian Affairs, Interior.

ACTION: Notice of request for comments.

SUMMARY: In compliance with the Paperwork Reduction Act of 1995, the Assistant Secretary—Indian Affairs is seeking comments on the survey instrument for the collection of information for the American Indian and Alaska Native Population and Labor Force Report. The survey instrument that is currently authorized by Office of Management and Budget (OMB) Control Number 1076-0147 expires August 31, 2012.

DATES: Submit comments on or before July 30, 2012.

ADDRESSES: You may submit comments on the information collection to Steven Payson, U.S. Department of the Interior, Bureau of Indian Affairs, 1849 C Street NW., Washington, DC 20240; email: Steven.Payson@bia.gov.

FOR FURTHER INFORMATION CONTACT: Steven Payson, 202-513-7745.

SUPPLEMENTARY INFORMATION:

I. Abstract

The Assistant Secretary—Indian Affairs is seeking comments on a survey instrument to collect information for the American Indian Population and Labor Force Report, as required by the Paperwork Reduction Act of 1995. The Indian Employment, Training and Related Services Demonstration Act of 1992, as amended, requires the Secretary to develop, maintain and publish, not less than biennially, a report on the population by gender, age, availability for work, and employment. The survey instrument is being revised to include updated instructions and additional questions that are consistent with the definitions of standard measures of population and employment, as defined in the Federal Statistical System, to represent an accurate report. The proposed revisions will be published in a subsequent Federal Register notice.

II. Request for Comments

The BIA requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it has a valid OMB Control Number.

It is our policy to make all comments available to the public for review at the location listed in the ADDRESSES section. Before including your address, phone number, email address or other personally identifiable information in your comment, you should be aware that your entire comment—including your personal identifying information—may be made publicly available at any time. While you can ask us in your comment to withhold your personal identifying information from public review, we cannot guarantee that we will be able to do so.

III. Data

OMB Control Number: 1076-0147.

Title: Department of the Interior, Office of the Assistant Secretary—Indian Affairs, American Indian Population and Labor Force Report.

Brief Description of Collection: Public Law 102-477, the Indian Employment, Training, and Related Services Demonstration Act of 1992, as amended, mandates the Secretary to publish, not less than biennially, a report on the American Indian and Alaska Native population eligible for services by gender, age, availability for work, and employment. Additional survey questions will be included to obtain more accurate and comprehensive information about the American Indian Population and Labor Force. Instructions for the existing questions will be revised to acquire information that is consistent with the definitions of standard measures of population and employment as defined in the Federal Statistical System. Response to this information collection is voluntary.

Type of Review: Revision of currently approved collection.

Respondents: American Indian Tribes and Alaska Natives.

Frequency of Response: Biennially.

Estimated Time per Response: 16 hours.

Estimated Total Annual Hour Burden: 4,680 hours (9,360 hours biennially).

Dated: May 21, 2012.
Alvin Foster,
Assistant Director for Information Resources.

[FR Doc. 2012-12905 Filed 5-25-12; 8:45 am]

BILLING CODE 4310-4M-P